NATIONAL TRANSPORTATION SAFETY BOARD

Sunshine Act Meeting

TIME AND PLACE: 9:30 a.m., Wednesday, February 21, 2001.

PLACE: NTSB Conference Center, 429 L'Enfant Plaza SW., Washington, DC 20594

STATUS: The three items are open to the public.

MATTERS TO BE CONSIDERED: 7327 Briefs of Accidents: Cessnas 172K and N79960, N89872 at Sarasota, FL on 3/9/2000 (MIA00FA103A/B) and Safety Recommendations to FAA re ATC procedures and practices.

7322 Survivability of Accidents Involving Part 121 U.S. Air Carrier Operations, 1983-1999.

7329 Hazardous Materials Accident Report: Rupture of Railroad Tank Car near Clymers, Indiana.

NEWS MEDIA CONTACT: Telephone: (202) 314-6100.

Individuals requesting specific accommodation should contact Mrs. Barbara Bush at (202) 314-6220 by Friday, February 16, 2001

FOR MORE INFORMATION CONTACT: Vicky D'Onofrio, (202) 314-6410.

Dated: February 9, 2001.
Vicky D'Onofrio,
Federal Register Liaison Officer.

[FR Doc. 01-3785 Filed 2-9-01; 3:55 pm]

BILLING CODE 7533-01-U